NATIONAL AERONAUTICS AND SPACE ADMINISTRATION

[Notice (07-066)]

NASA Advisory Council; Science Committee; Planetary Science Subcommittee; Meeting

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATES: Sunday, October 7, 2007, 8:30 a.m. to 5 p.m. Eastern Daylight Time.

ADDRESSES: The Rosen Centre Hotel, 9840 International Drive, Orlando, Florida 32819.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Planetary Science Division Update

—Mars Program Update

—Lunar Architecture Team 2 Study

—Report from Assessment Groups

—Discussion of Forming a Small Bodies Assessment Group

It is imperative that the meeting be held on this date to accommodate the scheduling priorities of the key participants. Attendees will be requested to sign a visitor's register.

Dated: September 12, 2007.
P. Diane Rausch,
Advisory Committee Management Officer, National Aeronautics and Space Administration.

[FR Doc. E7-18379 Filed 9-18-07; 8:45 am]

BILLING CODE 7510-13-P